DEPARTMENT OF DEFENSE

Office of the Secretary

[Transmittal No. 25-75]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-75, Policy Justification, and Sensitive of Technology.

Dated: February 5, 2026.
Stephanie J. Bost,
Alternate OSD Federal Register Liaison Officer, Department of Defense.

BILLING CODE 6001-FR-P

BILLING CODE 6001-FR-C

Transmittal No. 25-75

Notice of Proposed Issuance of Letter of Offer Pursuant to Section 36(b)(1) of the Arms Export Control Act, as amended

(i) Prospective Purchaser: Government of Denmark

(ii) Total Estimated Value:

Major Defense Equipment * | $1.5 billion
Other | $1.5 billion
TOTAL | $3.0 billion

(iii) Description and Quantity or Quantities of Articles or Services under Consideration for Purchase:

Major Defense Equipment (MDE):

Twenty-four (24) All Up Round Magazines

Eight (8) Indirect Fire Protection Capability Increment 2 launchers

Two (2) Sentinel A4 radars Integrated Battle Command System (IBCS)

Two (2) IBCS Engagement Operations Centers

Two (2) IBCS Integrated Collaborative Environments

Six (6) IBCS Integrated Fire Control Network relays

Non-Major Defense Equipment:

The following non-MDE items will also be included: reload vehicles; communications equipment, including, but not limited to, AN/PSN-13A Defense Advanced Global Positioning System receivers, AN/PYQ-10A Simple Key Loaders, AN/VRC-92F radio sets, RT-1523F receiver-transmitters, AN/TPX-61 interrogator set, AN/TPX-57A(V)1 Identification Friend or Foe (IFF) devices, KG-250X Inline Network Encryptors, and KIV-77 encryptors; tools and test equipment; support equipment; generators; publications and technical documentation; training equipment, including the Air Defense Reconfigurable Trainer; spare and repair parts; personnel training; Technical Assistance Field Team support; United States (U.S.) Government and contractor technical, engineering, and logistics support services; Systems Integration and Checkout; field office support; and other related elements of logistics and program support.

(iv) Military Department: Army (DE-B-VMJ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: December 5, 2025

* as defined in Section 47(6) of the Arms Export Control Act.

POLICY JUSTIFICATION

Denmark—Integrated Battle Command System with Indirect Fire Protection Capability

The Government of Denmark has requested to buy twenty-four (24) All Up Round Magazine (AUR-M); eight (8) Indirect Fire Protection Capability Increment 2 launchers; two (2) Sentinel A4 radars and Integrated Battle Command System (IBCS); two (2) IBCS Engagement Operations Centers; two (2) IBCS Integrated Collaborative Environments; and six (6) IBCS Integrated Fire Control Network relays. The following non-Major Defense Equipment items will also be included: reload vehicles; communications equipment, including, but not limited to, AN/PSN-13A Defense Advanced Global Positioning System receivers, AN/PYQ-10A Simple Key Loaders, AN/VRC-92F radio sets, RT-1523F receiver-transmitters, AN/TPX-61 interrogator set, AN/TPX-57A(V)1 Identification Friend or Foe (IFF) devices, KG-250X Inline Network Encryptors, and KIV-77 encryptors; tools and test equipment; support equipment; generators; publications and technical documentation; training equipment, including the Air Defense Reconfigurable Trainer; spare and repair parts; personnel training; Technical Assistance Field Team support; U.S. Government and contractor technical, engineering, and logistics support services; Systems Integration and Checkout; field office support; and other related elements of logistics and program support. The estimated total program cost is $3.0 billion.

This proposed sale will support the foreign policy and national security objectives of the U.S. by improving the security of a NATO Ally that is an important force for political stability and economic progress in Europe.

The proposed sale will improve Denmark's capability to meet current and future threats and enhance its interoperability with U.S. and other allied forces. It will also enhance Denmark's medium and long-range ground-based air defense capability. Denmark will have no difficulty absorbing this equipment and services into its armed forces.

The proposed sale of this equipment and support will not alter the basic military balance in the region.

The principal contractors will be RTX Corporation, located in Arlington, VA; Lockheed-Martin, located in Syracuse, NY; Leidos Inc., located in Reston, VA; and Northrop Grumman, located in Falls Church, VA. At this time, the U.S. Government is not aware of any offset agreement proposed in connection with this potential sale. Any offset agreement will be defined in negotiations between the purchaser and the contractor.

Implementation of this proposed sale will require 9-14 U.S. Government and 12-17 contractor representatives to travel to Denmark for up to seven years for equipment fielding, system checkout, training, and technical and logistics support.

There will be no adverse impact on U.S. defense readiness as a result of this proposed sale.

Transmittal No. 25-75

Notice of Proposed Issuance of Letter of Offer Pursuant to Section 36(b)(1) of the Arms Export Control Act

Annex

Item No. vii

(vii) Sensitivity of Technology:

1. The Sentinel A4 radar has advanced sensor capabilities that provide military advantages in integrated air and missile defense.

2. The Indirect Fire Protection Capability (IFPC) Increment 2 launcher is a mobile, ground-based weapon system designed to defeat unmanned aircraft systems and cruise missiles.

3. The IFPC weapon system employs the AIM-9X's interceptor in an environmentally sealed All Up Round Magazine (AUR-M). The AUR-M consists of six (6) AIM-9X interceptors in a vertical 2x3 magazine and eliminates the need to directly handle munitions. Each launcher can carry 3 AUR-Ms at a time for a total of 18 interceptors loaded. The magazine provides the structural assembly, environmental protection, and software interface between the launcher and interceptor. Upon delivery, the AUR-M serves as the storage, transportation, and operational configuration that is ready to load directly onto the launcher.

4. The Army Integrated Air and Missile Defense (AMD) (AIAMD) Integrated Battle Command System (IBCS) adapts existing and forthcoming AMD sensors, weaponry, and mission command technologies into a unified defense system. This integration facilitates a comprehensive air picture, enhances defended areas and provides flexible deployment options. The IBCS serves as the command-and-control solution for AIAMD and provides net centric, plug & fight, and system of systems command, control, communications, computers, intelligence, surveillance, and reconnaissance (C4ISR). The IBCS includes an Engagement Operations Center that delivers C4ISR functions to the battalion, battery, and platoon levels within the AMD Task Force.

5. The AN/PSN-13A Defense Advanced Global Positioning System (GPS) Receiver (DAGR) is a small commercial NAVSTAR GPS receiver designed for military operations. The Selective Availability/Anti Spoofing Module (SAASM) is a security device controlling the encryption that enables Precise Positioning Service (PPS) Y-code signals from GPS satellites and resists adversary attempts to spoof GPS signals. The DAGR with SAASM will provide position and location information necessary for ground-based operation.

6. The AN/PYQ-10A Simple Key Loader (SKL) is a ruggedized, portable hand-held device for securely receiving and storing data and transferring it between compatible cryptographic and communications equipment. The SKL employs type 1 encryption to protect stored key data.

7. The AN/VRC-92F radio set is a dual long-range, vehicle-mounted communication system that is part of the SINCGARS (Single Channel Ground and Airborne Radio System) family. It provides secure and reliable voice and data communication for tactical operations through both single-channel and frequency-hopping modes to resist jamming and interception. The system is critical for enabling command and control in dynamic battlefield environments.

8. The RT-1523F receiver-transmitter provides secure voice and data communication for U.S. military and allied forces and is a core component of the SINCGARS (Single Channel Ground and Airborne Radio System) family. It supports frequency-hopping technology to resist jamming and interception and ensure reliable communication in contested environments. The RT-1523F is versatile and is used in manpack, vehicle-mounted, and base station configurations, making it essential for tactical operations and command and control.

9. The AN/TPX-61 Interrogator Set securely identifies friendly aircraft and vehicles using advanced Mode 5 IFF technology. It provides encrypted, reliable authentication to prevent spoofing and ensure accurate identification in complex operational environments. The system is essential for enhancing situational awareness, reducing the risk of friendly fire, and supporting joint and allied operations.

10. The AN/TPX-57A(V)1 IFF system securely identifies friendly aircraft and vehicles in contested environments. It uses advanced Mode 5 encryption and ensures secure and reliable authentication to prevent spoofing or misidentification. The system is critical for reducing the risk of friendly fire and enhancing situational awareness in joint operations.

11. The KG-250X Inline Network Encryptor ensures secure, high-speed encryption for critical data transmitted over networks, including voice and video. The KG-250X features advanced anti-tamper protections, secure key management, and interoperability with other secure systems.

12. The KIV-77 Encryptor secures Mode 4/5 IFF systems. It provides advanced encryption to authenticate friendly aircraft and vehicles, ensuring secure and reliable identification while preventing spoofing or unauthorized access. The KIV-77 is critical for enhancing situational awareness, reduces the risk of friendly fire, and supports joint and allied operations.

13. The highest level of classification of defense articles, components, and services included in this potential sale is SECRET.

14. If a technologically advanced adversary were to obtain knowledge of the specific hardware and software elements, the information could be used to develop countermeasures that might reduce system effectiveness or be used in the development of a system with similar or advanced capabilities.

15. A determination has been made that Denmark can provide substantially the same degree of protection for the sensitive technology being released as the U.S. Government. This sale is necessary in furtherance of the U.S. foreign policy and national security objectives outlined in the Policy Justification.

16. All defense articles and services listed in this transmittal have been authorized for release and export to the Government of Denmark.

[FR Doc. 2026-02528 Filed 2-6-26; 8:45 am]

BILLING CODE 6001-FR-P